ENVIRONMENTAL PROTECTION AGENCY

[EPA-HQ-OPP-2007-0474; FRL-8135-9]

Methods for Testing Efficacy of Skin-Applied Repellents; Notice of Public Meeting

AGENCY: Environmental Protection Agency (EPA).

ACTION: Notice.

SUMMARY: EPA's Biopesticides and Pollution Prevention Division in cooperation with the Registration Division and the Field and External Affairs Division will host a public workshop on June 19, 2007. The purpose of the workshop is to share technical information on updates and latest developments in repellents efficacy testing, and alternatives to human subjects testing for efficacy of skin-applied repellents. Experts in product performance testing from other agencies of the Federal government, Department of Defense, United States Department of Agriculture, Centers for Disease Control, and private laboratories have been invited and are expected to attend. The invitation is also extended to the general public. Proceedings from this meeting will inform EPA for completing OPPTS Harmonized Guideline 810.3700. The revised OPPTS Harmonized 810.3700 testing guideline, Product Performance of Skin-Applied Repellents of Insect and other Arthropods, has already been through the Science Advisory Panel and the Human Studies Review Board review in recent years. The guideline provides guidance for adequate testing of performance of skin-applied repellents on insects and other arthropods of human health significance.

DATES: The meeting will be held on June 19, 2007, from 9 a.m. to 3 p.m.

To request accommodation of a disability, please contact the person listed under FOR FURTHER INFORMATON CONTACT, as soon as possible to give EPA time to process your request.

ADDRESSES: The meeting will be held in Room 4830 (4th Floor) of One Potomac Yard (South Building), 2777 S. Crystal Drive, Arlington, VA.

FOR FURTHER INFORMATION CONTACT: Clara Fuentes, Biopesticides and Pollution Prevention Division (7511C), Office of Pesticide Programs, Environmental Protection Agency, 1200 Pennsylvania Ave., NW., Washington, DC 20460-0001; telephone number: (703) 308-0171; fax number: (703) 308-7026; e-mail address: Fuentes.Clara@epa.gov.

SUPPLEMENTARY INFORMATION:

I. General Information

A. Does this Action Apply to Me?

This action is directed to the public in general. This action may be of particular interest to anyone who may be affected by the revised OPPTS Harmonized 810.3700 testing guideline, Product Performance of Skin-Applied Repellents of Insect and other Arthropods. You may be potentially affected by this action if you are involved in product performance testing for a Federal government agency or are a private laboratory which conducts product performance testing, repellent efficacy testing and/or human subjects testing. Potentially affected entities may include, but are not limited to:

• Testing Laboratories (NAICS code 541380), e.g., product testing laboratories or services, testing laboratories (except medical, veterinary), biological (except medical, veterinary) testing laboratories or services.

• Research and Development in Physical, Engineering, and Life Sciences (NAICS code 541710), e.g., agriculture research and development laboratories or services, biology research and development laboratories or services, environmental research and development laboratories or services, health research and development laboratories or services.

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established a docket for this action under docket identification (ID) number EPA-HQ-OPP-2007-0474. Publicly available docket materials are available either in the electronic docket at http://www.regulations.gov, or, if only available in hard copy, at the Office of Pesticide Programs (OPP) Regulatory Public Docket in Rm. S-4400, One Potomac Yard (South Building), 2777 S. Crystal Drive, Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Tentative Agenda

1. Presentation of lab repellent studies.

2. Novel repellents, essays, and chemical models.

3. Use of in vitro systems.

4. Field testing of mosquito repellents.

5. Data analysis and evaluation.

List of Subjects

Environmental protection, Human subjects, Product performance testing, Repellent efficacy.

Dated: June 11, 2007.
Janet L. Andersen,
Director, Biopesticides and Pollution Prevention Division, Office of Pesticide Programs.

[FR Doc. 07-2937 Filed 6-11-07; 12:01 pm]

BILLING CODE 6560-50-S